DEPARTMENT OF DEFENSE

Department of Navy

Notice of Intent To Grant a Partially/Co-Exclusive License; CogniTek Management Systems

AGENCY: Department of the Navy, DoD.

ACTION: Notice.

SUMMARY: The Department of the Navy hereby gives notice of its intent to grant to CogniTek Management Systems located at 3175 Commercial Avenue, Suite 102, Northbrook, Illinois 60062, a revocable, nonassignable, partially exclusive license throughout the United States (U.S.) in the fields of use for Spray Cleaning and Disinfecting for food, flavors, paints, inks, and desiccants; Fuel Atomization for Combustion, Power Generation and Fuel Production; Water Atomization and Water Evaporation for Heating, Cooling, Humidification and Dehumidification in Heating, Ventilation, and Air Conditioning and Greenhouse applications, as well as Freeze Drying; and a co-exclusive license throughout the U.S. in the fields of use for Water Desalination and Cleaning Systems for Health Products in the Government-Owned inventions described in U.S. Patent number 5,520,331 issued on May 28, 1996 entitled “Liquid Atomizing Nozzle” and U.S. Patent number 7,523,876 B2 issued on April 28, 2009 entitled “Adjustable Liquid Atomization Nozzle”.

ADDRESSES: Written objections are to be filed with the Naval Air Warfare Center Aircraft Division, Technology Transfer Office, Attention Michelle Miedzinski, Code 5.0H, 22347 Cedar Point Road, Building 2185, Room 2160, Patuxent River, Maryland 20670.

DATES: Anyone wishing to object to the grant of this license must file written objections along with supporting evidence, if any, within fifteen (15) days of the date of this published notice.

FOR FURTHER INFORMATION CONTACT: Michelle Miedzinski, 301-342-1133, Naval Air Warfare Center Aircraft Division, 22347 Cedar Point Road, Building 2185, Room 2160, Patuxent River, Maryland 20670.

Authority: 35 U.S.C. 207, 37 CFR part 404.

Dated: November 24, 2015.
N.A. Hagerty-Ford,
Commander, Office of the Judge Advocate General, U S. Navy, Federal Register Liaison Officer.

[FR Doc. 2015-30495 Filed 11-30-15; 8:45 am]

BILLING CODE 3810-FF-P